INTERNATIONAL TRADE COMMISSION

[Investigation No. 337-TA-940]

Certain Snowmobiles With Engines Having Exhaust Temperature-Controlled Engine Technology and Components Thereof; Termination of an Investigation on the Basis of Withdrawal of the Complaint

AGENCY: U.S. International Trade Commission.

ACTION: Notice.

SUMMARY: Notice is hereby given that the U.S. International Trade Commission has determined not to review the presiding administrative law judge's (“ALJ”) initial determination (“ID”) (Order No. 11) granting the complainant's motion to terminate the above-captioned investigation in its entirety on the basis of withdrawal of the complaint. The Commission has terminated the investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 24, 2014, based on a complaint filed by Arctic Cat Inc. of Plymouth, MN (“Arctic Cat”). 79 FR 77526 (Dec. 24, 2014). The complaint alleged violations of section 337 of the Tariff Act of 1930, as amended, 19 U.S.C. 1337, in the importation into the United States, the sale for importation, and the sale within the United States after importation of certain snowmobiles with engines having exhaust temperature-controlled engine technology and components thereof by reason of infringement of certain claims of three United States patents. The Commission's notice of investigation named as respondents Bombardier Recreational Products, Inc. of Québec, Canada; and BRP US Inc. of Sturtevant, Wisconsin.

On April 23, 2015, Arctic Cat filed an unopposed motion to terminate the investigation in its entirety based upon withdrawal of the complaint. On April 24, 2015, the ALJ granted the motion as an ID (Order No. 11).

No petitions for review were filed. The Commission has determined not to review the ID. The Commission has terminated the investigation.

The authority for the Commission's determination is contained in section 337 of the Tariff Act of 1930, as amended (19 U.S.C. 1337), and in the Commission's Rules of Practice and Procedure (19 CFR part 210).

By order of the Commission.
Issued: May 18, 2015.
Lisa R. Barton,
Secretary to the Commission.

[FR Doc. 2015-12301 Filed 5-20-15; 8:45 am]

BILLING CODE 7020-02-P